SMALL BUSINESS ADMINISTRATION

[Disaster Declaration #16710 and #16711; Oregon Disaster Number OR-00111]

Presidential Declaration Amendment of a Major Disaster for Public Assistance Only for the State of Oregon

AGENCY: Small Business Administration.

ACTION: Amendment 2.

SUMMARY: This is an amendment of the Presidential declaration of a major disaster for Public Assistance Only for the State of OREGON (FEMA-4562-DR), dated 10/20/2020. Incident: Wildfires and Straight-line Winds. Incident Period: 09/07/2020 through 11/03/2020.

DATES: Issued on 12/11/2020.

Physical Loan Application Deadline Date: 01/13/2021.

Economic Injury (EIDL) Loan Application Deadline Date: 07/20/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Oregon, dated 10/20/2020, is hereby amended to extend the deadline for filing applications for physical damage as a result of this disaster to 01/13/2021.

All other information in the original declaration remains unchanged.

(Catalog of Federal Domestic Assistance Number 59008)

Cynthia Pitts,
Acting Associate Administrator for Disaster Assistance.

[FR Doc. 2020-27920 Filed 12-17-20; 8:45 am]

BILLING CODE 8026-03-P